ENVIRONMENTAL PROTECTION AGENCY

[FRL-7002-4]

Notice of Proposed Administrative Settlement Pursuant to the Comprehensive Environmental Response, Compensation, and Liability Act

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement concerning the Shore Refinery site, Kilgore, Gregg County, Texas with the parties referenced in the Supplementary Information portion of this Notice.

The settlement require the settling parties to perform a removal action, and make payment of future response costs to the Hazardous Substances Superfund. The settling parties were provided orphan share compensation in the form of forgiveness of past costs. The settlement includes a covenant not to sue pursuant to Sections 106 and 107 of CERCLA, 42 U.S.C. 9606 and 9607.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at 1445 Ross Avenue, Dallas, Texas, 75202-2733.

DATES: Comments must be submitted on or before July 27, 2001.

ADDRESSES: The proposed settlement and additional background information relating to the settlement are available for public inspection at 1445 Ross Avenue, Dallas, Texas, 75202-2733. A copy of the proposed settlement may be obtained from Carl Bolden, 1445 Ross Avenue, Dallas, Texas, 75202-2733 at (214) 665-6713. Comments should reference the Shore Refinery Superfund Site, Kilgore, Gregg County, Texas and EPA Docket Number 6-01-2000, and should be addressed to Carl Bolden at the address listed above.

FOR FURTHER INFORMATION CONTACT: Michael Boydston,1445 Ross Avenue, Dallas, Texas, 75202-2733 at (214) 665-7376.

SUPPLEMENTARY INFORMATION:

Atlas Processing Company c/o Pennzoil-Quaker State Company

LaGloria Oil and Gas Company c/o Crown Central Petroleum

Texaco Inc.

Eastman Chemical Company

ExxonMobil Chemical Company

Dated: June 13, 2001.
Jerry Clifford,
Acting Regional Administrator, Region 6.

[FR Doc. 01-16116 Filed 6-26-01; 8:45 am]

BILLING CODE 6560-50-P